DEPARTMENT OF HEALTH AND HUMAN SERVICES

Centers for Disease Control and Prevention

[60 Day-01-36]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 639-7090.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Anne O'Connor, CDC Assistant Reports Clearance Officer, 1600 Clifton Road, MS-D24, Atlanta, GA 30333. Written comments should be received within 60 days of this notice.

Proposed Project

The State and Local Area Integrated Telephone Survey (SLAITS)—Revision—OMB No. 0920-0406 National Center for Health Statistics (NCHS), Centers for Disease Control and Prevention (CDC). This is a request to continue for three years the integrated and coordinated survey system designed to collect needed health and welfare related data at the state and local levels. Using the random-digit-dial sampling frame from the ongoing National Immunization Survey (NIS) and Computer Assisted Telephone Interviewing (CATI), the State and Local Area Integrated Telephone Survey (SLAITS) has quickly collected and produced data to monitor health status, child and family well-being, health care utilization, access to care, program participation, chronic conditions, and changes in health care coverage at the state and local levels. These efforts are conducted in cooperation with federal, state, and local officials. SLAITS offers a centrally administered data collection mechanism with standardized questionnaires and quality control measures which allow comparability of estimates between states, over time, and with national data. SLAITS is designed to allow oversampling of population subdomains and to meet federal, state and local needs for subnational estimates which are compatible with national data.

For some SLAITS modules, questionnaire content was drawn from existing surveys including the National Health Interview Survey (NHIS), the National Health and Nutrition Examination Survey (NHANES), the Current Population Survey (CPS), the Survey of Income and Program Participation (SIPP), the National Household Education Survey, and the National Survey of America's Families. Other questionnaire modules were developed specifically for SLAITS during the pilot study phase and during the past three years. The existing modules include General Health, Child Well-Being and Welfare, Children with Special Health Care Needs, Asthma Prevalence and Treatment, Knowledge of Medicaid and the State Children's Health Insurance Program (SCHIP), Survey of Early Childhood Health, and HIV/STD Related Risk Behavior.

Over the past three years, SLAITS has provided policy analysts, program planners, and researchers with high quality data for decision making and program assessment. The module on Medicaid and SCHIP will be featured prominently in a report to Congress on insuring children. The module on children with special health care needs (CSHCN) will be used by federal and state Maternal and Child Health Bureau Directors in evaluating programs and service needs. The American Academy of Pediatrics is using the module on early childhood health to advise pediatricians on patient care standards and informing parents about the health and well-being of young children.

Funding for SLAITS is obtained through a variety of mechanisms including Foundation grants, State collaborations, and federal appropriation and evaluation monies. The level of implementation depends on the amount of funding received and can be expanded as funding permits. Questionnaire modules will be compiled to address the data needs of interest to the federal, state or local funding agency or organization. Possible topics include but are not limited to disability, children's health, violence against women, health behaviors, unintentional injuries, program participation, health care coverage, or any of the topics previously studied. The burden table below is annualized. There is no cost to respondents other than their time.

Respondents | Number of respondents | Number of responses/ respondent | Average burden/ response in hours | Total burden in hours
Noninstitutionalized household population in 50 States and D.C. | 204,000 | 1 | 0.30 | 61,200
Pretest modules | 1,800 | 1 | 0.30 | 600
Total Burden | 205,800 |  |  | 61,800

Dated: May 4, 2001.
Nancy Cheal,
Acting Associate Director for Policy, Planning and Evaluation Centers for Disease Control and Prevention.

[FR Doc. 01-11815 Filed 5-9-01; 8:45 am]

BILLING CODE 4163-18-P